ENVIRONMENTAL PROTECTION AGENCY

40 CFR Parts 52 and 70

[EPA-R07-OAR-2020-0059; FRL-10009-33-Region 7]

Air Plan Approval; Iowa; State Implementation Plan and Operating Permits Program

AGENCY: Environmental Protection Agency (EPA).

ACTION: Final rule.

SUMMARY: The Environmental Protection Agency (EPA) is approving revisions to the Iowa State Implementation Plan (SIP) and the Operating Permits Program. The revisions include updating definitions, regulatory references, correcting the State's mailing address, requiring facilities to submit electronic emissions inventory information under the State's title V permitting program, and updating references for the most recent federally approved minimum specifications and quality assurance procedures for performance evaluations of continuous monitoring systems. Approval of these revisions will not impact air quality and will ensure consistency between the State and Federally approved rules.

DATES: This final rule is effective July 1, 2020.

ADDRESSES: The EPA has established a docket for this action under Docket ID No. EPA-R07-OAR-2020-0059. All documents in the docket are listed on the https://www.regulations.gov website. Although listed in the index, some information is not publicly available, i.e., CBI or other information whose disclosure is restricted by statute. Certain other material, such as copyrighted material, is not placed on the internet and will be publicly available only in hard copy form. Publicly available docket materials are available through https://www.regulations.gov or please contact the person identified in the FOR FURTHER INFORMATION CONTACT section for additional information.

FOR FURTHER INFORMATION CONTACT: Stephanie Doolan, Environmental Protection Agency, Region 7 Office, Air Quality Planning Branch, 11201 Renner Boulevard, Lenexa, Kansas 66219; telephone number (913) 551-7719; email address Doolan.stephanie@epa.gov.

SUPPLEMENTARY INFORMATION: Throughout this document “we,” “us,” and “our” refer to EPA.

Table of Contents

I. What is being addressed in this document?

II. Have the requirements for approval of a SIP revision been met?

III. The EPA's Response to Comments

IV. What action is the EPA taking?

V. Incorporation by Reference

VI. Statutory and Executive Order Reviews

I. What is being addressed in this document?

The EPA is approving the State of Iowa's April 18, 2019, submission to revise its SIP and the Operating Permits Program to incorporate recent changes to Iowa Administrative Code. In this document, the EPA is approving revisions to three chapters, including Chapter 20, “Scope of Title—Definitions;” Chapter 22, “Controlling Pollution;” and Chapter 25, “Measurement of Emissions”. The revisions the EPA is approving are to make the definition of “EPA reference method” consistent with Federal reference methods, add a cross-reference to Iowa's permitting rules with a state rule regarding air quality nonattainment areas, provide the correct address for the Iowa Department of Natural Resources Air Quality Bureau, and adopt the minimum performance specifications and quality assurance procedures for performance evaluations of continuous monitoring systems specified by the EPA in 40 CFR part 60, appendix B, amended through August 7, 2017. A more detailed discussion of these revisions is provided in the proposed approval. (85 FR 10357, February 24, 2020).

The EPA is not acting on Iowa Administrative Code 567-22.105(1) that allows facility owners or operators to submit an electronic title V operating permit application until the State obtains approval from the EPA that its electronic document receiving system is consistent with the Cross-Media Electronic Reporting Rule, 40 CFR part 3. (74 FR 68692, December 29, 2009). In addition, subrule 22.105(1)“a” subparagraph (9) is not approved.

Sections 111 and 112 of the Clean Air Act (CAA) allow the EPA to delegate authority to states for New Source Performance Standards (NSPS), National Emission Standards for Hazardous Air Pollutants (NESHAPs), and emission guidelines. The EPA has delegated authority to Iowa for approved portions of these sections of the CAA. Changes made to Iowa's Chapter 23 pertaining to new and revised NSPS, NESHAPs, and emission guidelines are not directly approved into the SIP, but rather, are adopted by reference. Thus, the EPA is not specifically approving these changes to Iowa Administrative Code into the State's SIP.

II. Have the requirements for approval of a SIP revision been met?

The State submission has met the public notice requirements for SIP submissions in accordance with 40 CFR 51.102. The submission also satisfied the completeness criteria of 40 CFR part 51, appendix V. The State held a public comment period from December 19, 2018 to January 22, 2019, with a public hearing on January 22, 2019. One comment was received, but it was outside the scope of this rulemaking. The submission satisfies the completeness criteria of 40 CFR part 51, appendix V. In addition, these revisions meet the substantive SIP requirements of the CAA, including section 110 and implementing regulations. Finally, the revisions are also consistent with applicable EPA requirements of title V of the CAA and 40 CFR part 70.

III. The EPA's Response to Comments

The public comment period on the EPA's proposed rule opened February 24, 2020, the date of its publication in the Federal Register and closed on March 25, 2020. (85 FR 10357, February 24, 2020). During this period, EPA received one comment which was not substantive and does not require the EPA to respond.

IV. What action is the EPA taking?

The EPA is taking final action to revise the Iowa SIP and Operating Permits Program to update the definition of “EPA Reference Method” and the corresponding procedures for Federal updates to methods and procedures for continuous monitoring systems, correct the mailing address for IDNR's Air Quality Bureau, add a regulatory cross-reference, and require facilities to submit electronic emissions inventory information under the State's title V permitting program. The EPA has determined that approval of these revisions will not impact air quality and will ensure consistency between the State and federally-approved rules, and ensure Federal enforceability of the State's revised air program rules.

V. Incorporation by Reference

In this document, the EPA is finalizing regulatory text that includes incorporation by reference. In accordance with requirements of 1 CFR 51.5, the EPA is finalizing the incorporation by reference of the Iowa Regulations described in the amendments to 40 CFR part 52 set forth below. The EPA has made, and will continue to make, these materials generally available through www.regulations.gov and at the EPA Region 7 Office (please contact the person identified in the FOR FURTHER INFORMATION CONTACT section of this preamble for more information).

Therefore, these materials have been approved by the EPA for inclusion in the State Implementation Plan, have been incorporated by reference by EPA into that plan, are fully federally enforceable under sections 110 and 113 of the CAA as of the effective date of the final rulemaking of the EPA's approval, and will be incorporated by reference in the next update to the SIP compilation.¹

¹ 62 FR 27968, May 22, 1997.

VI. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L.104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by July 31, 2020. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects

40 CFR Part 52

Environmental protection, Air pollution control, Incorporation by reference, Intergovernmental relations, Particulate matter, Reporting and recordkeeping requirements, Volatile organic compounds.

40 CFR Part 70

Environmental protection, Administrative practice and procedure, Air pollution control, Intergovernmental relations, Operating permits, Reporting and recordkeeping requirements.

Dated: May 5, 2020.
James Gulliford,
Regional Administrator, Region 7.

For the reasons stated in the preamble, EPA amends 40 CFR parts 52 and 70 as set forth below:

PART 52—APPROVAL AND PROMULGATION OF IMPLEMENTATION PLANS

1. The authority citation for part 52 continues to read as follows:

Authority: 42 U.S.C. 7401 et seq.

Subpart Q—Iowa

2. In § 52.820, the table in paragraph (c) is amended by revising the entries “567-20.2”, “567-22.1”, “567-22.9”, “567-22.300”, and “567-25.1” to read as follows:

§ 52.820 Identification of plan.

* * * * *

(c) * * *

EPA-Approved Iowa Regulations
Iowa citation | Title | State effective date | EPA approval date | Explanation
Iowa Department of Natural Resources Environmental Protection Commission [567]
Chapter 20—Scope of Title—Definitions
* * * * * * *
567-20.2 | Definitions | 4/17/2019 | 6/1/2020, [insert Federal Register citation] | The definitions for “anaerobic lagoon,” “odor,” “odorous substance,” “odorous substance source” are not SIP approved.
* * * * * * *
Chapter 22—Controlling Pollution
567-22.1 | Permits Required for New or Stationary Sources | 4/17/2019 | 6/1/2020, [insert Federal Register citation] | In 22.1(3) the following sentence regarding electronic submission is not SIP approved. The sentence is: “Alternatively, the owner or operator may apply for a construction permit for a new or modified stationary source through the electronic submittal format specified by the department.”
* * * * * * *
567-22.9 | Special Requirements for Visibility Protection | 4/17/2019 | 6/1/2020, [insert Federal Register citation] |
* * * * * * *
567-22.300 | Operating Permit by Rule for Small Sources | 4/17/2019 | 6/1/2020, [insert Federal Register citation] |
* * * * * * *
Chapter 25—Measurement of Emissions
567-25.1 | Testing and Sampling of New and Existing Equipment | 4/17/2019 | 6/1/2020, [insert Federal Register citation] |
* * * * * * *

* * * * *

PART 70-STATE OPERATING PERMIT PROGRAMS

3. The authority citation for part 70 continues to read as follows:

Authority: 42 U.S.C. 7401, et seq.

4. Appendix A to part 70 is amended by adding paragraph (v) under “Iowa” to read as follows:

Appendix A to Part 70—Approval Status of State and Local Operating Permits Programs

* * * * *

Iowa

* * * * *

(v) The Iowa Department of Natural Resources submitted for program approval revisions to rules 567-22.100, 567-22.105(1), 567-22.106(2), 567-22.128(4), 567-22.300(8), and 567-22.300(12).

The state effective date is April 17, 2019. This revision is effective May 5, 2020.

* * * * *

[FR Doc. 2020-09930 Filed 5-29-20; 8:45 am]

BILLING CODE 6560-50-P